DEPARTMENT OF TRANSPORTATION

Federal Aviation Administration

14 CFR Part 25

[Docket No. NM246; Special Conditions No. 25-231-SC]

Special Conditions: Embraer Model 170-100 and 170-200 Airplanes; Sudden Engine Stoppage; Operation Without Normal Electrical Power; Interaction of Systems and Structures

AGENCY: Federal Aviation Administration, DOT.

ACTION: Final special conditions; correction.

SUMMARY: This document corrects a typographical error that appeared in Final Special Conditions 25-231-SC, which were published in the Federal Register on April 23, 2003 (68 FR 19933). The typographical error resulted in inadvertent repetition of the following language:

In lieu of compliance with 14 CFR 25.1351(d), the following special conditions apply:

This language correctly appears in the section of the special conditions entitled Operation Without Normal Electrical Power. This same language incorrectly appears in the section entitled Interaction of Systems and Structure and should be stricken.

EFFECTIVE DATE: April 10, 2003.

FOR FURTHER INFORMATION CONTACT: Tom Groves, FAA, International Branch, ANM-116, Transport Airplane Directorate, Aircraft Certification Service, 1601 Lind Avenue SW., Renton, Washington 98055-4056; telephone (425) 227-1503; facsimile (425) 227-1149.

SUPPLEMENTARY INFORMATION: Final special conditions for Embraer Model 170-100 and 170-200 airplanes were published in the Federal Register on April 23, 2003 [68 FR 19933]. These special conditions pertained to sudden engine stoppage, operation without normal electrical power, and interaction of systems and structures.

As published, the final special conditions contained an inadvertent repetition of certain language on page 19935. After the section entitled Operation Without Normal Electrical Power, the language “In lieu of compliance with 14 CFR 25.13519(d), the following special conditions apply:” should remain. In the section entitled Interaction of Systems and Structure, that language should be stricken.

Since no other part of the final special conditions has been changed, the final special conditions are not being republished.

The effective date of the final special conditions remains April 10, 2003.

Issued in Renton, Washington on June 23, 2003.
Ali Bahrami,
Acting Manager, Transport Airplane Directorate, Aircraft Certification Service.

[FR Doc. 03-17112 Filed 7-7-03; 8:45 am]

BILLING CODE 4910-13-P